DEPARTMENT OF HEALTH AND HUMAN SERVICES

National Institutes of Health

National Cancer Institute; Amended Notice of Meeting

Notice is hereby given of a change in the meeting of the Subcommittee D—Clinical Studies, April 9, 2006, 6 p.m. to April 10, 2006, 5 p.m., Bethesda Marriott, 5151 Pooks Hill Road, Bethesda, MD 20814 which was published in the Federal Register on March 9, 2006, 71 FR 12202.

The meeting is amended to change the meeting location from Bethesda Marriott, 5151 Pooks Hill Rd., Bethesda, MD 20814 to Marriott Bethesda North Hotel Conference Ctr, 5701 Marinelli Rd., N. Bethesda, MD 20852. The meeting is closed to the public.

March 17, 2006.
Anna Snouffer,
Acting Director, Office of Federal Advisory Committee Policy.

[FR Doc. 06-2817 Filed 3-22-06; 8:45 am]

BILLING CODE 4140-01-M